DEPARTMENT OF COMMERCE

Foreign-Trade Zones Board

[Order No. 1632]

Grant of Authority for Subzone Status, Cornell Dubilier Marketing, Inc. (Electrolytic Capacitors), Liberty, SC

Pursuant to its authority under the Foreign-Trade Zones Act of June 18, 1934, as amended (19 U.S.C. 81a-81u), the Foreign-Trade Zones Board (the Board) adopts the following Order:

Whereas, the Foreign-Trade Zones Act provides for ”. . . the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the South Carolina State Ports Authority, grantee of Foreign-Trade Zone 38, has made application for authority to establish special-purpose subzone status at the aluminum electrolytic capacitor manufacturing plant of Cornell Dubilier Marketing, Inc. (Docket 46-2008, filed 8-18-2008);

Whereas, notice inviting public comment was given in the Federal Register (73 FR 49990, 8-25-2008); and,

Whereas, the Board adopts the findings and recommendations of the examiner's report, and finds that the requirements of the FTZ Act and the Board's regulations are satisfied, and that approval of the application is in the public interest;

Now, therefore, the Board hereby grants authority for subzone status for activity related to the manufacturing of aluminum electrolytic capacitors at the Cornell Dubilier Marketing, Inc., facility located in Liberty, South Carolina (Subzone 38I), as described in the application and Federal Register notice, and subject to the FTZ Act and the Board's regulations, including Section 400.28.

Signed at Washington, DC, this 26th day of June 2009.

Ronald K. Lorentzen,
Acting Assistant Secretary of Commerce for Import Administration, Alternate Chairman, Foreign-Trade Zones Board.
Attest:
Andrew McGilvray,
Executive Secretary.

[FR Doc. E9-16389 Filed 7-9-09; 8:45 am]

BILLING CODE: 3510-DS-S